DEPARTMENT OF THE INTERIOR

Bureau of Indian Affairs

Interim Deputation Agreements; Interim BIA Adult Detention Facility Guidelines

AGENCY: Bureau of Indian Affairs, Interior.

ACTION: Notice.

SUMMARY: This notice announces the online publication of the Interim BIA Adult Detention Facility Guidelines and the Interim Model Deputation Agreements that will be used by the Office of Justice Services following passage of the Tribal Law and Order Act of 2010. Three Interim Model Deputation Agreements will be used: one agreement for tribes in Public Law 83-280 States, one for tribes in Oklahoma, and a general deputation agreement for tribes in other parts of the United States. The documents are published on the Indian Affairs Web site.

DATES: These Interim BIA Adult Detention Facility Guidelines and Interim Model Deputation Agreements are effective on January 25, 2011.

FOR FURTHER INFORMATION CONTACT: Charles Addington, Bureau of Indian Affairs, Office of Justice Services, 1849 C Street, NW., Washington, DC 20240; Telephone (202) 208-5787 about the Interim Model Deputation Agreements and Carla Flanagan, Bureau of Indian Affairs, Office of Justice Services, 1849 C Street, NW., Washington, DC 20240; Telephone (202) 219-1651 about the Interim BIA Adult Detention Facility Guidelines.

SUPPLEMENTARY INFORMATION: The Tribal Law and Order Act of 2010 calls for publication of the Model Deputation Agreements and the BIA Adult Detention Facility Guidelines. The documents are being published for interim use on the Indian Affairs Web site at http://www.bia.gov/WhoWeAre/BIA/OJS/index.htm. The documents were the subject of tribal consultation in November and December 2010. The Office of Justice Services continues consultation on the Tribal Law and Order Act of 2010 and expects to publish these documents in final form once the consultation ends.

The Interim BIA Adult Detention Facility Guidelines pertain to the operation and maintenance of Indian country detention facilities and other facilities contracted by the Bureau of Indian Affairs to house Indian offenders.

The Interim Model Deputation Agreements provide for the deputation of law enforcement officers employed by tribes, States and subdivisions of States. Deputized officers are authorized to assist the Bureau of Indian Affairs in its duties to provide law enforcement services and to make lawful arrests in Indian country within the jurisdiction of the tribe. Three model Deputation Agreements are necessary because of special jurisdictional considerations in Oklahoma and Public Law 83-280 States.

Dated: January 20, 2011.
Larry Echo Hawk,
Assistant Secretary—Indian Affairs.

[FR Doc. 2011-1661 Filed 1-24-11; 8:45 am]

BILLING CODE 4310-4J-P